OFFICE OF THE UNITED STATES TRADE REPRESENTATIVE

Determination Regarding Waiver of Discriminatory Purchasing Requirements With Respect to Goods and Services of a New Member State of the European Union (Republic of Croatia)

AGENCY: Office of the United States Trade Representative.

ACTION: Determination Regarding Waiver of Discriminatory Purchasing Requirements under the Trade Agreements Act of 1979.

DATES: Effective Date: September 30, 2013.

FOR FURTHER INFORMATION CONTACT: Scott J. Pietan, Director of International Procurement Policy, Office of the United States Trade Representative, (202) 395-9646.

SUPPLEMENTARY INFORMATION: The European Union (“EU”) is a party to the World Trade Organization (“WTO”) Agreement on Government Procurement (“GPA”) and has assumed rights and obligations under the GPA on behalf of its Member States. On July 1, 2013, the Republic of Croatia acceded to the EU. In light of that accession, the EU has committed to assume rights and obligations on behalf of the new Member State under the GPA. On June 27, 2013 the WTO Committee on Government Procurement approved the application of the GPA to the Republic of Croatia. The United States, which is also a party to the GPA, has agreed to waive discriminatory purchasing requirements for eligible products and suppliers of the Republic of Croatia, beginning on September 30, 2013.

Section 1-201 of Executive Order 12260 of December 31, 1980 delegated the functions of the President under sections 301 and 302 of the Trade Agreements Act of 1979 (“the Trade Agreements Act”) (19 U.S.C. 2511, 2512) to the United States Trade Representative.

Determination: In conformity with sections 301 and 302 of the Trade Agreements Act, and in order to carry out U.S. obligations under the GPA, I hereby determine that:

1. The European Union, including the Republic of Croatia, is an instrumentality that: (A) is a party to the GPA; and (B) will provide appropriate reciprocal competitive government procurement opportunities to United States products and services and suppliers of such products and services. In accordance with section 301(b)(1) of the Trade Agreements Act, the European Union is so designated for purposes of section 301(a) of the Trade Agreements Act.

2. Accordingly, beginning on September 30, 2013, with respect to eligible products (namely, those goods and services covered under the GPA for procurement by the United States) of the Republic of Croatia and suppliers of such products, the application of any law, regulation, procedure, or practice regarding government procurement that would, if applied to such products and suppliers, result in treatment less favorable than that accorded—

(A) To United States products and suppliers of such products, or

(B) To eligible products of another foreign country or instrumentality which is a party to the GPA and suppliers of such products, shall be waived. This waiver shall be applied by all entities listed in United States Annexes 1 and 3 of GPA Appendix 1.

3. The Trade Representative may modify or withdraw the designation in paragraph 1 and the waiver in paragraph 2.

4. This notice shall not affect the treatment to be accorded to eligible products of any country that was a Member State of the European Union before September 30, 2013.

Dated: September 17, 2013.
Mike Froman,
United States Trade Representative.

[FR Doc. 2013-23857 Filed 9-30-13; 8:45 am]

BILLING CODE 3290-F3-P